FEDERAL COMMUNICATIONS COMMISSION

47 CFR Part 64

[WC Docket No. 17-97, FCC 22-37; FR ID 101457]

Advanced Methods To Target and Eliminate Unlawful Robocalls, Sixth Report and Order, CG Docket No. 17-59, Call Authentication Trust Anchor, Fifth Report and Order

AGENCY: Federal Communications Commission.

ACTION: Final rule and announcement of compliance date.

SUMMARY: In this document, the Federal Communications Commission (Commission or FCC) announces that the Office of Management and Budget (OMB) has approved the public information collection associated with a rule that requires all voice service providers respond to traceback “fully and in a timely manner” and gateway providers must respond within 24 hours adopted in the Gateway Provider Report and Order, FCC 22-37, and that compliance with the modified rule will be required. It modifies the paragraph advising that compliance was not required until OMB approval was obtained. This document is consistent with the Sixth Report and Order in CG Docket No. 17-59, Fifth Report and Order in WC Docket No. 17-97, and Gateway Provider Report and Order, FCC 22-37 adopted on May 19, 2022 and released on May 20, 2022, which states the Commission will publish a document in the Federal Register announcing a compliance date for the modified rule section and revise the rules accordingly.

DATES: This rule is effective September 23, 2022. Compliance with 47 CFR 64.1200(n)(1), published at 87 FR 42916, July 18, 2022, is required on September 23, 2022.

FOR FURTHER INFORMATION CONTACT: Jerusha Burnett, Consumer Policy Division, Consumer and Governmental Affairs Bureau, at (202) 418-0526, or email: Jerusha.Burnett@fcc.gov.

SUPPLEMENTARY INFORMATION: This document announces that OMB approved the information collection requirement in 47 CFR 64.1200(n)(1) on July 20, 2022. The rule was modified in the Gateway Provider Report and Order, FCC 22-97 adopted on May 19, 2022 and released on May 20, 2022. The Commission publishes this document as an announcement of the compliance date of the rule. If you have any comments on the burden estimates listed below, or how the Commission can improve the collections and reduce any burdens caused thereby, please contact Cathy Williams, Federal Communications Commission, Room 3.317, 45 L Street NE, Washington, DC 20554. Please include the OMB Control Number, 3060-1303, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

This document also modifies § 64.1200(p) of the Commission's rules, which advised that compliance was not required until OMB approval was obtained.

Synopsis

As required by the Paperwork Reduction Act of 1995 (44 U.S.C. 3507), the FCC is notifying the public that it received final OMB approval on July 20, 2022, for the information collection requirement contained in the modification to 47 CFR 64.1200(n)(1).

Under 5 CFR part 1320.5(b), an agency may not conduct or sponsor a collection of information unless it displays a current, valid OMB Control Number.

No person shall be subject to any penalty for failing to comply with a collection of information subject to the Paperwork Reduction Act that does not display a current, valid OMB Control Number. The OMB Control Number for the information collection requirement in 47 CFR 64.1200(n)(1) is 3060-1303.

The foregoing notice is required by the Paperwork Reduction Act of 1995, Public Law 104-13, October 1, 1995, and 44 U.S.C. 3507.

The total annual reporting burdens and costs for the respondents are as follows:

OMB Control Number: 3060-1303.

OMB Approval Date: July 20, 2022.

OMB Expiration Date: January 31, 2023.

Title: Advanced Methods to Target and Eliminate Unlawful Robocalls, Sixth Report and Order, CG Docket No. 17-59, Call Authentication Trust Anchor, Fifth Report and Order, WC Docket No. 17-97, FCC 22-37.

Form Number: N/A.

Respondents: Business or other for-profit entities, not-for-profit institutions, and state, local or tribal governments.

Number of Respondents and Responses: 6,493 respondents; 311,664 responses.

Estimated Time per Response: .25 hours.

Frequency of Response: On occasion reporting requirement.

Obligation to Respond: Required to obtain or retain benefits. The statutory authority for this information collection is contained in sections 4(i), 4(j), 201, 202, 217, 227, 227b, 251(e), 303(r), and 403 of the Communications Act of 1934, as amended, 47 U.S.C. 154(i), 154(j), 201, 202, 217, 227, 227b, 251(e), 303(r), and 403.

Total Annual Burden: 77,916 hours.

Total Annual Cost: No cost.

Needs and Uses: The Commission adopted a new information collection associated with the Advanced Methods to Target and Eliminate Unlawful Robocalls Sixth Report and Order and Call Authentication Trust Anchor Fifth Report and Order (“Gateway Provider Report and Order”). Unwanted and illegal robocalls have long been the Federal Communication Commission's (“Commission”) top source of consumer complaints and one of the Commission's top consumer protection priorities. Foreign-originated robocalls represent a significant portion of illegal robocalls, and gateway providers serve as a critical choke-point for reducing the number of illegal robocalls received by American consumers. In the Gateway Provider Report and Order, the Commission took steps to prevent these foreign-originated illegal robocalls from reaching consumers and to help track these calls back to the source. Along with further extension of the Commission's caller ID authentication requirements and Robocall Mitigation Database filing requirements, the Commission adopted several robocall mitigation requirements, including a requirement for gateway providers to respond to traceback within 24 hours, mandatory blocking requirements, a “know your upstream provider” requirement, and a general mitigation requirement.

This document also modifies § 64.1200(p) of the Commission's rules, which advised that compliance was not required until OMB approval was obtained.

List of Subjects in 47 CFR Part 64

Carrier equipment, Communications common carriers. Reporting and recordkeeping requirements, Telecommunications, Telephone.

The Federal Communications Commission amends 47 CFR part 64 as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 255, 262, 276, 403(b)(2)(B), (c), 616, 620, 716, 1401-1473, unless otherwise noted; Pub. L. 115-141, Div. P, sec. 503, 132 Stat. 348, 1091.

Subpart L—Restrictions on Telemarketing, Telephone Solicitation, and Facsimile Advertising

2. Amend § 64.1200 by revising paragraph (p) to read as follows:

§ 64.1200 Delivery restrictions.

* * * * *

(p) Paragraph (o) of this section may contain an information collection and/or recordkeeping requirement. Compliance with paragraph (o) will not be required until this paragraph (p) is removed or contains a compliance date, which will not occur until after the Office of Management and Budget completes review of such requirements pursuant to the Paperwork Reduction Act or until after the Consumer and Governmental Affairs Bureau determines that such review is not required. The Commission directs the Consumer and Governmental Affairs Bureau to announce a compliance date for paragraph (o) by subsequent Public Notice and notification in the Federal Register and to cause paragraph (o) to be revised accordingly.

Federal Communications Commission.
Marlene Dortch,
Secretary, Office of the Secretary.

[FR Doc. 2022-18148 Filed 8-23-22; 8:45 am]

BILLING CODE 6712-01-P